DEPARTMENT OF DEFENSE

Office of the Secretary

[Docket ID: DOD-2018-OS-0052]

Proposed Collection; Comment Request

AGENCY: Office of the Under Secretary of Defense for Personnel and Readiness, DoD.

ACTION: Information collection notice.

SUMMARY: In compliance with the Paperwork Reduction Act of 1995, the Office of the Undersecretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 16, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Under Secretary of Defense (Personnel and Readiness) (FE&T), Office of Financial Readiness, ATTN: Mr. Andrew Cohen, 4000 Defense Pentagon, Washington, DC 20301-4000, or telephone Mr. Cohen at (703) 692-5286.

SUPPLEMENTARY INFORMATION:

Title; Associated Form; and OMB Number: Mandatory Disclosures as Part of Limitations on Terms of Consumer Credit Extended to Service Members and Dependents; OMB Control Number 0704-0444.

Needs and Uses: With respect to any extension of consumer credit to a covered borrower, a creditor is required to provide to the borrower a statement of Military Annual Percentage Rate (MAPR). The required information would be included in standard account agreements. Additionally, a creditor may, at its discretion, identify the status of a consumer-applicant, as permitted under 32 CFR, 232.5(b) of the Final Rule and, in the event that the information indicates that consumer-applicant is not a covered borrower, take advantage of a safe harbor from liability under 10 U.S.C. 987 by retaining a record of the information so obtained. This includes Military Annual Percentage Rate (MAPR) applicable to the extension of consumer credit, and the total dollar amount of all charges included in the MAPR.

Affected Public: Business or other for-profit.

Annual Burden Hours: 2,000,000.

Number of Respondents: 37,500.

Responses per Respondent: Varies by type of respondent.

Annual Responses: 238,000,000.

Average Burden per Response: 30 seconds.

Frequency: As required.

Respondents are creditors extending consumer credit as defined in the Final Rule (32 CFR, 232.3(f)) to covered borrowers (32 CFR, 232.3(g)) property. Each response is a statutory requirement that obligates creditors to provide a clear description of the payment obligation of the covered member or dependent, as applicable. A payment schedule may satisfy this requirement.

The creditor shall provide the disclosures in writing in a form the covered borrower can keep. The creditor also shall provide the required disclosures orally. In mail and internet transactions, the creditor satisfies this requirement by providing a toll-free telephone number on or with the written disclosures that consumers may use to obtain oral disclosures. One disclosure for each transaction involving consumer credit; one covered-borrower check for each transaction involving consumer credit.

Dated: August 14, 2018.
Shelly E. Finke,
Alternate OSD Federal Register Liaison Officer, Department of Defense.

[FR Doc. 2018-17746 Filed 8-16-18; 8:45 am]

BILLING CODE 5001-06-P